DEPARTMENT OF ENERGY

Federal Energy Regulatory Commission

[Docket No. CP08-35-000]

East Tennessee Natural Gas, LLC; Notice of Request Under Blanket Authorization

December 19, 2007.

Take notice that on December 13, 2007, East Tennessee Natural Gas, LLC (East Tennessee), 5400 Westheimer Court, Houston, Texas 77056-5310, filed in Docket No. CP08-35-000, an application pursuant to sections 157.205, 157.208, and 157.210 of the Commission's Regulations under the Natural Gas Act (NGA) as amended, to increase the operating pressure on certain segments of its mainline pipeline system between Smyth County, Virginia, and Rockingham County, North Carolina, and to install related facilities to accommodate the increased volumes of natural gas production by CNX Gas Company LLC (CNX), under East Tennessee's blanket certificate issued in Docket No. CP82-412-000,¹ all as more fully set forth in the application which is on file with the Commission and open to the public for inspection.

¹ 20 FERC ¶ 62,413 (1982).

East Tennessee proposes to increase the operating pressure on (1) approximately 5.78 miles of 12-inch diameter Line 3300-2 from 924 psig to 1150 psig, (2) approximately 26.34 miles of 24-inch diameter Line 3300-2 from 924 psig to 1200 psig, and (3) approximately 113.60 miles of 24-inch diameter Lines 3300-2 and 3600-1 from 1200 psig to 1440 psig and install appurtenant values, cross-over piping, pressure monitoring and overpressure protection equipment, and a heater and filter separator, all at an estimated cost of $4,774,000. East Tennessee states that it would finance this project with funds on hand.

Any questions concerning this application may be directed to Garth Johnson, General Manager, Certificates & Reporting, East Tennessee Natural Gas, LLC, P.O. Box 1642, Houston, Texas 77251-1642, or via telephone at (713) 627-5415, or facsimile number (713) 627-5947.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E7-25328 Filed 12-28-07; 8:45 am]

BILLING CODE 6717-01-P